DEPARTMENT OF HOMELAND SECURITY

8 CFR Parts 1, 208, 209, 212, 214, 217, 235, 245, 274a, 286, and 299

[CIS No. 2460-08; DHS Docket No. USCIS-2008-0039]

RIN 1615-AB77

DEPARTMENT OF JUSTICE

Executive Office for Immigration Review

8 CFR Parts 1001, 1208, 1209, 1212, 1235, and 1245 and 1274a

[EOIR Docket No. 169 AG Order No. 3120-2009]

RIN 1125-AA67

Application of Immigration Regulations to the Commonwealth of the Northern Mariana Islands

AGENCY: U.S. Citizenship and Immigration Services, DHS; Executive Office for Immigration Review, DOJ.

ACTION: Interim final rule; Correction.

SUMMARY: This document contains corrections to the interim final rule published in the Federal Register on October 28, 2009. The interim final rule implemented conforming amendments to the Department of Homeland Security and the Department of Justice regulations to comply with the Consolidated Natural Resources Act of 2008. A review after publication identified one inadvertent omission and three errors in the interim final rule.

DATES: This correction will be effective on November 28, 2009.

FOR FURTHER INFORMATION CONTACT: Fred Ongcapin, U.S. Citizenship and Immigration Services, Department of Homeland Security, 20 Massachusetts Avenue, NW., 2nd Floor, Washington, DC 20529-2211, telephone (202) 272-8221 (not a toll-free call).

SUPPLEMENTARY INFORMATION:

Need for Correction

On October 28, 2009, the Department of Homeland Security (DHS) and the Department of Justice (DOJ) jointly published an interim final rule in the Federal Register at 74 FR 55726 implementing conforming amendments to DHS and DOJ regulations to comply with the Consolidated Natural Resources Act of 2008 (CNRA). The CNRA extends the immigration laws of the United States to the Commonwealth of the Northern Mariana Islands (CNMI). Among the amendments made, the rule designated certain employment authorization/identity documents that are used only in the CNMI as acceptable for completing the Employment Eligibility Verification Form (Form I-9). The rule also introduced a new version of the Form I-9 to be used only in the CNMI. This document corrects one inadvertent omission and three errors.

(1) DHS is correcting an omission to the regulatory text in the interim final rule. In the middle of the second column on page 55732 of that rule, the preamble announces that DHS is creating a new Form I-9 for use by CNMI employers that contains new acceptable documents specific to the CNMI. However, DHS inadvertently omitted revising the regulatory text at 8 CFR 274a.2(a)(2) to provide for the new CNMI-only Form I-9. This rule corrects this omission by amending 8 CFR 274a.2(a)(2) to require CNMI employers to use the CNMI-specific Form I-9 to satisfy the Form I-9 requirements. Use of the CNMI-only Form I-9 is limited to the 2-year transition period, November 28, 2009, through November 27, 2011. This correction clarifies that use of the CNMI Form I-9 is limited to the CNMI and that CNMI employers may not use the regular Form I-9 during the 2-year transition period.

(2) DHS is correcting an error in the regulatory text and a related error in the Supplementary Information of the interim final rule. The regulatory text that added new 8 CFR 274a.2(b)(1)(v)(D)(1)(i) on page 55739 erroneously states that the issuing authority for the Alien Entry Permit with red band is the Department of Labor of the CNMI. The correct issuing authority is the CNMI Office of the Attorney General, Division of Immigration. Likewise, on page 55732, the Supplementary Information erroneously states that the Department of Labor of the CNMI issues all three of the CNMI-issued documents listed in the rule at 8 CFR 274a.2(b)(1)(v)(D)(1), including the Alien Entry Permit.

(3) DOJ is correcting an error in the regulatory text of the interim final rule. The regulatory text that added new 8 CFR 1212.1(q) on page 55742 erroneously cross-references 8 CFR 212.1(l) with respect to admissibility under the Guam-CNMI Visa Waiver Program. The correct cross-reference should be to 8 CFR 212.1(q). Through this rule, DHS and DOJ are correcting these errors.

Correction of Publication

Accordingly, the publication on October 28, 2009 (74 FR 55726) of the interim final rule that was the subject of FR Doc. E9-26094 is corrected as follows:

PART 274a—CONTROL OF EMPLOYMENT OF ALIENS

1. On page 55732, first column, under the heading “2. Employment Authorization Documentation” second paragraph, seventh sentence, remove the phrase “Department of Labor of”.

2. On page 55739, third column, add amendment 24a, with regulatory text, immediately before amendment 25 to read:

24a. Section 274a.2(a)(2) is amended by adding two new sentences immediately after the first sentence to read as follows:

§ 274a.2 Verification of employment eligibility.

(a) * * *

(2) Verification form. * * * In the Commonwealth of the Northern Mariana Islands (CNMI) only, for a 2-year period starting from the transition program effective date (as defined in 8 CFR 1.1), the Form I-9 CNMI Employment Eligibility Verification Form must be used in lieu of Form I-9 in complying with the requirements of 8 CFR 274a.1 through 274a.11. Whenever “Form I-9” is mentioned in this title 8, “Form I-9” means Form I-9 or, when used in the CNMI for a 2-year period starting from the transition program effective date (as defined in 8 CFR 1.1), Form I-9 CNMI. * * *

* * * * *

3. On page 55739, in the third column under § 274a.2 (b)(1)(v)(D)(1)(i), revise the phrase “Department of Labor” to read “Office of the Attorney General, Division of Immigration”.

PART 1212—DOCUMENTARY REQUIREMENTS; NONIMMIGRANTS; WAIVERS; ADMISSION OF CERTAIN INADMISSIBLE ALIENS; PAROLE

4. On page 55742, in the third column, in paragraph 1212.1(q)(1) introductory text, the citation “8 CFR 212(1)” is revised to read “8 CFR 212(q)”.

Rosemary Hart,
Federal Register Liaison Officer, Department of Justice.
Christina E. McDonald,
Deputy Associate General Counsel for Regulatory Affairs, Department of Homeland Security.

[FR Doc. E9-28417 Filed 11-25-09; 8:45 am]

BILLING CODE 9111-97-P